DEPARTMENT OF COMMERCE

National Oceanic and Atmospheric Administration

RIN 0648-XR44

Magnuson-Stevens Act Provisions; General Provisions for Domestic Fisheries; Application for Exempted Fishing Permits (EFPs)

AGENCY: Department of Commerce, National Oceanic and Atmospheric Administration (NOAA), National Marine Fisheries Service (NMFS).

ACTION: Notification of a proposal for an EFP to conduct exempted fishing; request for comments.

SUMMARY: The Assistant Regional Administrator for Sustainable Fisheries, Northeast Region, NMFS (Assistant Regional Administrator), has made a preliminary determination that the subject EFP application that was submitted by the University of Rhode Island (URI) warrants further consideration and should be issued for public comment. The EFP would exempt participating vessels from summer flounder size restrictions, scup size restrictions, scup possession restrictions, and possession restrictions for squid and butterfish. The Assistant Regional Administrator has also made a preliminary determination that the activities authorized under the EFP would be consistent with the goals and objectives of the Summer Flounder, Scup, and Black Sea Bass Fishery Management Plan (FMP); and the Atlantic Mackerel, Squid, and Butterfish FMP. However, further review and consultation may be necessary before a final determination is made.

DATES: Comments must be received on or before October 1, 2009.

ADDRESSES: Comments may be submitted by e-mail. The mailbox address for providing e-mail comments is nero.efp@noaa.gov. Include in the subject line of the e-mail comment the following document identifier: “Comments on URI Drop Chain Trawl Net EFP.” Written comments should be sent to Patricia A. Kurkul, Regional Administrator, NMFS, Northeast Regional Office, 55 Great Republic Drive, Gloucester, MA 01930. Mark the outside of the envelope, “Comments on URI Drop Chain Trawl Net EFP.” Comments may also be sent via facsimile (fax) to (978) 281-9135.

FOR FURTHER INFORMATION CONTACT: Sarah Bland, Fishery Management Specialist, (978) 281-9257.

SUPPLEMENTARY INFORMATION: A complete application for an EFP was submitted by URI on August 31, 2009, for a study that would test the effectiveness of a drop chain small mesh net in its ability to reduce catches of summer flounder in the small mesh fishery. The study would also evaluate discard mortality of summer flounder caught using the Reflex Action Mortality Predictor (RAMP) method.

The study would be conducted aboard two commercial fishing vessels in the directed small mesh fishery for squid in Block Island Sound and Rhode Island Sound. Research trips associated with the study would be conducted over a 12-month period, beginning in October 2009 and continuing through September 2010. Field work would be split into three time periods, consisting of a total of 12 fishing days. Vessels would conduct side-by-side tows, with one vessel towing a control net and the other towing an experimental net. The control net would be a 362 x 12-cm two-seam polyethylene balloon net equipped with a 20-cm rockhopper sweep. The experimental net would be identical to the control net, but equipped with a 1-ft (30.5-cm) drop chain sweep.

Each fishing day would consist of four to six tows of 1.5 hr duration. For each tow, total catch size would be determined prior to subsampling. Following Northeast Fisheries Science Center (NEFSC) protocols, either all of the summer flounder catch, or a subsample, would be weighed. Target catch species would include squid, butterfish, and scup. These species would also be sampled and weighed. Species would be sorted by sub-legal and legal-sized fish, and weights would be taken for each group.

On 5 fishing days, up to 50 legal and sub-legal sized summer flounder would be transferred to an on-board holding tank. Individual fish would be measured for length, and the presence or absence of six RAMP tests would be noted. After visual inspection, fish would be tagged, transported in coolers to the Blount Aquaculture Research Laboratory, and held for 60 days for survival and growth studies.

The applicants have requested exemptions from summer flounder size restrictions at § 648.103. This exemption would allow vessels to retain and land summer flounder that would be transported to the Blount Aquaculture Research Lab for a 2-month holding period to quantify delayed mortality. Fish surviving the 2-month holding period would be returned to Rhode Island coastal waters. The applicants have also requested temporary exemptions from scup size restrictions at § 648.124; scup possession limits at § 648.125; and possession restrictions for squid and butterfish at § 648.25. These exemptions would allow incidental catch species to be temporarily retained for data collection purposes. Incidental catch below the minimum size, and above the possession limit, would be discarded immediately following data collection.

The applicants anticipate that for each control net tow, the legal-sized summer flounder catch would be 75 lb (34 kg), and the sub-legal sized summer flounder catch would be 12 lb (5.4 kg). Target catch, including squid, butterfish, and scup, would total 150 lb (68 kg). For each experimental net tow, both the legal-sized and sub-legal sized summer flounder catch would be less than 10 lb (4.5 kg). Target catch would remain 150 lb (68 kg). Each day of fishing would consist of four to six side-by-side tows, with a total of 12 fishing days for the project.

The applicants may request minor modifications and extensions to the EFP throughout the course of research. EFP modifications and extensions may be granted without further public notice if they are deemed essential to facilitate completion of the proposed research and result in only a minimal change in the scope or impacts of the initially approved EFP request.

Authority: 16 U.S.C. 1801 et seq.

Dated: September 11, 2009.
Emily H. Menashes,
Acting Director, Office of Sustainable Fisheries, National Marine Fisheries Service.

[FR Doc. E9-22269 Filed 9-15-09; 8:45 am]

BILLING CODE 3510-22-S